EXECUTIVE OFFICE OF THE PRESIDENT

Office of National Drug Control Policy

Appointment of Members of Senior Executive Service Performance Review Board

AGENCY: Office of National Drug Control Policy (ONDCP).

ACTION: Notice of appointments.

SUMMARY: The following persons have been appointed to the ONDCP Senior Executive Service Performance Review Board: Dr. Terry Zobeck (as Chair), Mr. Michael Gottlieb, Ms. Michele Marx, and Mr. Kemp Chester.

FOR FURTHER INFORMATION CONTACT: Please direct any questions to Michael Passante, Deputy General Counsel (202) 395-6709, Office of National Drug Control Policy, Executive Office of the President, Washington, DC 20503.

Dated: August 16, 2017.
Michael Passante,
Deputy General Counsel.

[FR Doc. 2017-17689 Filed 8-21-17; 8:45 am]

BILLING CODE 3280-F5-P